DEPARTMENT OF TRANSPORTATION

Federal Aviation Administration

Proposed Airworthiness Standards for Acceptance Under the Special Class Rule

AGENCY: Federal Aviation Administration (FAA), DOT.

ACTION: Notice and request for comments.

SUMMARY: This notice requests comments on proposed airworthiness standards for acceptance of the BA609 Tiltrotor under 14 CFR 21.17(b), designation of applicable regulations for special classes of aircraft for which airworthiness standards have not been issued.

DATES: Send your comments on or before January 25, 2008.

ADDRESSES: Send all comments to the FAA, Rotorcraft Directorate, Aircraft Certification Service, Rotorcraft Standards, Fort Worth, Texas 76193-0110. You may also send comments electronically to 9_ASW_ROTOR_SAFE@faa.gov. The subject line should read “Comment to BA609 Certification Basis.”

FOR FURTHER INFORMATION CONTACT: Sharon Miles, Rotorcraft Standards Staff, ASW-111, 2601 Meacham Boulevard, Fort Worth, TX 76137, telephone (817) 222-5122, or by e-mail at Sharon.Y.Miles@faa.gov.

SUPPLEMENTARY INFORMATION:

Comments Invited

We invite interested parties to submit comments on the proposed airworthiness standards to the address specified above. The FAA will consider all communications received on or before the closing date. These are preliminary proposed airworthiness standards as certification evaluation is ongoing. As such, we also plan to issue a subsequent Notice, addressing the final proposed standards and any comments received in response to this advance Notice prior to issuing the final acceptance. Commenting on this advance Notice does not preclude commenting on the subsequent Notice.

Background

The “special class” category for aircraft was created specifically for non-conventional aircraft for which airworthiness standards have not been issued and provides a means for applicants to propose airworthiness standards for their particular special class aircraft. The FAA procedure establishing appropriate airworthiness standards includes reviewing and possibly revising the application proposal, publication of the submittal in the Federal Register for public review and comment, and addressing the comments. After all necessary revisions, the standards are published as approved FAA airworthiness standards.

Accordingly, the applicant for the BA609 Tiltrotor has submitted a request to the FAA to include the applicable requirements of those airworthiness requirements contained in Title 14 of the Code of Federal Regulations, parts 23, 25, and 29 found by the Administrator to be appropriate for the BA609 Tiltrotor or such airworthiness criteria as the Administrator may find appropriate for this special class aircraft that provides an acceptable level of safety equivalent to the level of safety provided in the existing airworthiness standards. We have considered the applicant's proposal and have determined that those 14 CFR parts 23, 25, and 29 requirements and certain additional airworthiness standards should apply.

How To Obtain Copies

You may obtain a copy of the proposed airworthiness standards from the Internet at: http://www.faa.gov/aircraft/draft_docs/.

Issued in Fort Worth, Texas, on September 12, 2007.
Mark R. Schilling,
Acting Manager, Rotorcraft Directorate, Aircraft Certification Service.

[FR Doc. E7-19053 Filed 9-26-07; 8:45 am]

BILLING CODE 4910-13-P